FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Cargo Transport, Inc. dba Blue Ocean Marine, 44190 Mercure Circle, Suite 195, Dulles, VA 20166, Officers: David Bernhardt, President (Qualifying Individual), Michael Moore, C.E.O.

Goodway Cargo International Freight Forwarders, Inc. dba Goodway Cargo Line, 2801 N.W. 74th Avenue, Suite 102, Miami, FL 33122, Officers: Jose Antonio Da Silva, President (Qualifying Individual), Marcos A. Dasilva, Treasury

Non-Vessel Operating Common Carrier and Ocean Freight Forwarder Transportation Intermediary Applicant

Cargo Gate International, Inc., 20435 South Western Avenue, Torrance, CA 90501, Officer: Andrew Han Kang, President (Qualifying Individual)

Ocean Freight Forwarder—Ocean Transportation Intermediary Applicant

JAG INT'L of So. Fla., Inc., 2700 W. Atlantic Blvd., Suite 200-19, Pomano Beach, FL 33069, Officer: Kimberly Boehm, President, Qualifying Individual

Dated: October 18, 2002.
Bryant L. VanBrakle,
Secretary.

[FR Doc. 02-26979 Filed 10-22-02; 8:45 am]

BILLING CODE 6730-01-P